DEPARTMENT OF AGRICULTURE

Forest Service

Umatilla National Forest, Columbia County Resource Advisory Committee

AGENCY: Forest Service, USDA.

ACTION: Notice of meeting.

SUMMARY: The Umatilla National Forest, Columbia County Resource Advisory Committee will meet in Dayton, Washington as authorized under the Secure Rural Schools and Community Self-Determination Act. Purpose of the meeting will be to monitor projects being implemented under Public Law 110-343 and if authorized by the Secretary of Agriculture by the meeting date, to review and recommend projects to be funded under Public Law 112-141. This meeting is open to the public.

DATE: Meeting will be held on September 17, 2012, and will begin at 7 p.m.

ADDRESSES: Meeting will be held at the U.S. Post Office, 202 South Second Street, Dayton, WA. Written comments should be sent to Monte Fujishin, Pomeroy Ranger District, 71 West Main Street, Pomeroy, WA 99347. Comments may also be sent via email to mfujishin@fs.fed.us, or via facsimile to 509-843-4621.

All comments, including names and addresses when provided, are placed in the record and are available for public inspection and copying. Interested publics may inspect comments received at Pomeroy Ranger District, 71 West Main Street, Pomeroy, WA 99347. Visitors are encouraged to call ahead to 509-843-1891 to facilitate entry into the building.

FOR FURTHER INFORMATION CONTACT: Monte Fujishin, RAC Designated Federal Official, USDA, Umatilla National Forest, Pomeroy Ranger District, 71 West Main Street, Pomeroy, WA 99347; (509) 843-1891; Email mfujishin@fs.fed.us.

Individuals who use telecommunication devices for the deaf (TDD) may call the Idaho, Washington Relay Service at 1-800-377-3529, 24 hours a day, 365 days a year.

SUPPLEMENTARY INFORMATION: The meeting is open to the public. The following business will be conducted: (1) Monitor and review progress of projects implemented under Public Law 110-343, (2) If authorized by the Secretary of Agriculture by the meeting date, to review and recommend projects to be funded under Public Law 112-141, and if there are participants, (3) Public Comment. Persons who wish to bring related matters to the attention of the Committee may file written statements with the Committee staff before or after the meeting.

Dated: August 1, 2012.
Monte Fujishin,
Designated Federal Officer.

[FR Doc. 2012-19494 Filed 8-8-12; 8:45 am]

BILLING CODE 3410-11-P